DEPARTMENT OF ENERGY

Federal Energy Regulatory Commission

Combined Notice of Filings #1

Take notice that the Commission received the following electric corporate filings:

Docket Numbers: EC17-166-000.

Applicants: Northern States Power Company, a Minnesota corporation, Benson Power, LLC.

Description: Joint Application for Authorization under Section 203 of the Federal Power Act, Request for Expedited Treatment, Waivers and Confidential Treatment of Northern States Power Company, a Minnesota corporation, et al.

Filed Date: 8/28/17.

Accession Number: 20170828-5176.

Comments Due: 5 p.m. ET 9/18/17.

Take notice that the Commission received the following exempt wholesale generator filings:

Docket Numbers: EG17-145-000.

Applicants: Imperial Valley Solar 3, LLC.

Description: Notice of Self-Certification of EWG Status of Imperial Valley Solar 3, LLC.

Filed Date: 8/28/17.

Accession Number: 20170828-5134.

Comments Due: 5 p.m. ET 9/18/17.

Take notice that the Commission received the following electric rate filings:

Docket Numbers: ER17-1752-002.

Applicants: Pacific Gas and Electric Company.

Description: Tariff Amendment: Silicon Valley Power Deficiency Filing for Grizzly Agreement (RS 248) to be effective 8/1/2017.

Filed Date: 8/28/17.

Accession Number: 20170828-5147.

Comments Due: 5 p.m. ET 9/18/17.

Docket Numbers: ER17-2364-000.

Applicants: St. Joseph Energy Center, LLC.

Description: Baseline eTariff Filing: Application for Market Based Rate to be effective 10/31/2017.

Filed Date: 8/28/17.

Accession Number: 20170828-5119.

Comments Due: 5 p.m. ET 9/18/17.

Docket Numbers: ER17-2365-000.

Applicants: Arizona Public Service Company.

Description: § 205(d) Rate Filing: Service Agreement No. 318—NTUA NITS to be effective 8/1/2017.

Filed Date: 8/28/17.

Accession Number: 20170828-5148.

Comments Due: 5 p.m. ET 9/18/17.

Docket Numbers: ER17-2366-000.

Applicants: West Penn Power Company, PJM Interconnection, L.L.C., The Potomac Edison Company.

Description: § 205(d) Rate Filing: West Penn submits Borderline Agreement, Service Agreement No. 4692 with Potomac to be effective 9/1/2017.

Filed Date: 8/29/17.

Accession Number: 20170829-5094.

Comments Due: 5 p.m. ET 9/19/17.

Docket Numbers: ER17-2367-000.

Applicants: GenOn Holdco 1, LLC.

Description: Baseline eTariff Filing: Application for Market-Based Rate Authorization and Request for Waivers to be effective 10/1/2017.

Filed Date: 8/29/17.

Accession Number: 20170829-5095.

Comments Due: 5 p.m. ET 9/19/17.

Docket Numbers: ER17-2368-000.

Applicants: GenOn Holdco 3, LLC.

Description: Baseline eTariff Filing: Application for Market-Based Rate Authorization and Request for Waivers to be effective 10/1/2017.

Filed Date: 8/29/17.

Accession Number: 20170829-5097.

Comments Due: 5 p.m. ET 9/19/17.

Docket Numbers: ER17-2369-000.

Applicants: GenOn Holdco 4, LLC.

Description: Baseline eTariff Filing: Application for Market-Based Rate Authorization and Request for Waivers to be effective 10/1/2017.

Filed Date: 8/29/17.

Accession Number: 20170829-5099.

Comments Due: 5 p.m. ET 9/19/17.

Docket Numbers: ER17-2370-000.

Applicants: GenOn Holdco 2, LLC.

Description: Baseline eTariff Filing: Application for Market-Based Rate Authorization and Request for Waivers to be effective 10/1/2017.

Filed Date: 8/29/17.

Accession Number: 20170829-5101.

Comments Due: 5 p.m. ET 9/19/17.

Docket Numbers: ER17-2371-000.

Applicants: GenOn Holdco 5, LLC.

Description: Baseline eTariff Filing: Application for Market-Based Rate Authorization and Request for Waivers to be effective 10/1/2017.

Filed Date: 8/29/17.

Accession Number: 20170829-5102.

Comments Due: 5 p.m. ET 9/19/17.

Docket Numbers: ER17-2372-000.

Applicants: GenOn Holdco 6, LLC.

Description: Baseline eTariff Filing: Application for Market-Based Rate Authorization and Request for Waivers to be effective 10/1/2017.

Filed Date: 8/29/17.

Accession Number: 20170829-5104.

Comments Due: 5 p.m. ET 9/19/17.

Docket Numbers: ER17-2373-000.

Applicants: GenOn Holdco 7, LLC.

Description: Baseline eTariff Filing: Application for Market-Based Rate Authorization and Request for Waivers to be effective 10/1/2017.

Filed Date: 8/29/17.

Accession Number: 20170829-5105.

Comments Due: 5 p.m. ET 9/19/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 29, 2017.
Nathaniel J. Davis, Sr.,
Deputy Secretary.

[FR Doc. 2017-18713 Filed 9-1-17; 8:45 am]

BILLING CODE 6717-01-P